DEPARTMENT OF HOMELAND SECURITY

Federal Emergency Management Agency

[Docket ID FEMA-2025-0002; Internal Agency Docket No. FEMA-B-2510]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Online location of letter of map revision | Date of modification | Community No.
Arizona:
Coconino | Unincorporated areas of Coconino County (23-09-0474P). | Andy Bertelsen, Coconino County Manager, 219 East Cherry Avenue, Flagstaff, AZ 86001. | Coconino County Administrative Center, 219 East Cherry Avenue, Flagstaff, AZ 86001. | https://msc.fema.gov/portal/advanceSearch. | Jun. 6, 2025 | 040019
Mohave | City of Kingman (24-09-0955P). | The Honorable Ken Watkins, Mayor, City of Kingman, 310 North 4th Street, Kingman, AZ 86401. | City Hall, 310 North 4th Street, Kingman, AZ 86401. | https://msc.fema.gov/portal/advanceSearch. | May 15, 2025 | 040060
Arkansas: Sebastian | Unincorporated areas of Sebastian County (24-06-1908P). | The Honorable Steve Hotz, Sebastian County Judge, 35 South 6th Street, Room 106, Fort Smith, AR 72901. | Sebastian County Courthouse, 35 South 6th Street, Fort Smith, AR 72901. | https://msc.fema.gov/portal/advanceSearch. | Jun. 2, 2025 | 050462
California:
Riverside | City of Corona (23-09-0157P). | The Honorable Jim Steiner, Mayor, City of Corona, 400 South Vicentia Avenue, Corona, CA 92882. | Public Works Department, 400 South Vicentia Avenue, Corona, CA 92882. | https://msc.fema.gov/portal/advanceSearch. | May 12, 2025 | 060250
Riverside | City of Corona (24-09-0762P). | The Honorable Jim Steiner, Mayor, City of Corona, 400 South Vicentia Avenue, Corona, CA 92882. | Public Works Department, 400 South Vicentia Avenue, Corona, CA 92882. | https://msc.fema.gov/portal/advanceSearch. | May 22, 2025 | 060250
Riverside | City of Jurupa Valley (24-09-0110P). | The Honorable Guillermo Silva, Mayor, City of Jurupa Valley, 8930 Limonite Avenue, Jurupa Valley, CA 92509. | City Hall, 8304 Limonite Avenue, Suite M, Jurupa, CA 92509. | https://msc.fema.gov/portal/advanceSearch. | May 30, 2025 | 060286
Riverside | City of Lake Elsinore (24-09-0382P). | The Honorable Steve Manos, Mayor, City of Lake Elsinore, 130 South Main Street, Lake Elsinore, CA 92530. | City Hall, 130 South Main Street, Lake Elsinore, CA 92530. | https://msc.fema.gov/portal/advanceSearch. | Jun. 5, 2025 | 060636
Riverside | Unincorporated areas of Riverside County (23-09-0157P). | Chuck Washington, Chair, Riverside County Board of Supervisors, 4080 Lemon Street, 5th Floor, Riverside, CA 92501. | Riverside County Flood Control and Water Conservation District, 1995 Market Street, Riverside, CA 92501. | https://msc.fema.gov/portal/advanceSearch. | May 12, 2025 | 060245
Riverside | Unincorporated areas of Riverside County (24-09-0382P). | Chuck Washington, Chair, Riverside County Board of Supervisors, 4080 Lemon Street, 5th Floor, Riverside, CA 92501. | Riverside County Flood Control and Water Conservation District, 1995 Market Street, Riverside, CA 92501. | https://msc.fema.gov/portal/advanceSearch. | Jun. 5, 2025 | 060245
Tulare | Unincorporated areas of Tulare County (22-09-1345P). | Larry Micari, Chair, Tulare County Board of Supervisors, 2800 West Burrel Avenue, Visalia, CA 93291. | Tulare County Government Plaza, Resource Management Headquarters, 5961 South Mooney Boulevard, Visalia, CA 93277. | https://msc.fema.gov/portal/advanceSearch. | May 12, 2025 | 065066
Ventura | City of Santa Paula (23-09-1150P). | The Honorable Leslie Cornejo, Mayor, City of Santa Paula, 970 East Ventura Street, Santa Paula, CA 93060. | City Hall, 970 East Ventura Street, Santa Paula, CA 93060. | https://msc.fema.gov/portal/advanceSearch. | May 15, 2025 | 060420
Ventura | Unincorporated areas of Ventura County (23-09-1150P). | Kelly Long, Chair, Ventura County Board of Supervisors, 1203 Flynn Road, Suite 200, Camarillo, CA 93012. | Ventura County Public Works Watershed Protection, 800 South Victoria Avenue, Ventura, CA 93009. | https://msc.fema.gov/portal/advanceSearch. | May 15, 2025 | 060413
Colorado:
El Paso | City of Colorado Springs (23-08-0277P). | The Honorable Yemi Mobolade, Mayor, City of Colorado Springs, 30 South Nevada Avenue, Suite 601, Colorado Springs, CO 80903. | Pikes Peak Regional Building Department, Floodplain Management Office, 2880 International Circle, Colorado Springs, CO 80910. | https://msc.fema.gov/portal/advanceSearch. | May 12, 2025 | 080060
El Paso | Unincorporated areas of El Paso County (23-08-0701P). | Carrie Geitner, Chair, El Paso County, Board of Commissioners, 200 South Cascade Avenue, Suite 100, Colorado Springs, CO 80903. | El Paso Pikes Peak Regional Building Department, Floodplain Management Office, 2880 International Circle, Colorado Springs, CO 80910. | https://msc.fema.gov/portal/advanceSearch. | May 28, 2025 | 080059
Florida:
Lee | City of Bonita Springs (24-04-3955P). | The Honorable Rick Steinmeyer, Mayor, City of Bonita Springs, 9101 Bonita Beach Road, Bonita Springs, FL 34135. | City Hall, 9101 Bonita Beach Road, Bonita Springs, FL 34135. | https://msc.fema.gov/portal/advanceSearch. | May 12, 2025 | 120680
Lee | City of Fort Myers (24-04-2834P). | Marty Lawing, Manager, City of Fort Myers, 2200 2nd Street, Fort Myers, FL 33901. | City Hall, 2200 2nd Street, Fort Myers, FL 33901. | https://msc.fema.gov/portal/advanceSearch. | May 12, 2025 | 120680
Orange | Unincorporated areas of Orange County (24-04-0093P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Jun. 2, 2025 | 120179
St. Johns | Unincorporated areas of St. Johns County (24-04-2968P). | Joy Andrews, St. Johns County Administrator, 500 San Sebastian View, St. Augustine, FL 32084. | St. Johns County Administration Building, 500 San Sebastian View, St. Augustine, FL 32084. | https://msc.fema.gov/portal/advanceSearch. | Jun. 2, 2025 | 125147
St. Johns | Unincorporated areas of St. Johns County (24-04-5086P). | Joy Andrews, St. Johns County Administrator, 500 San Sebastian View, St. Augustine, FL 32084. | St. Johns County Administration Building, 500 San Sebastian View, St. Augustine, FL 32084. | https://msc.fema.gov/portal/advanceSearch. | Jun. 4, 2025 | 125147
Illinois: Richland | City of Olney (25-05-0277P). | The Honorable Mark Lambird, Mayor, City of Olney, 300 South Whittle Avenue, Olney, IL 62450. | City Hall, 300 South Whittle Avenue, Olney, IL 62450. | https://msc.fema.gov/portal/advanceSearch. | May 30, 2025 | 170581
Michigan: Kalamazoo | City of Portage (23-05-2858P). | The Honorable Patricia M. Randall, Mayor, City of Portage, 7900 South Westnedge Avenue, Portage, MI 49002. | City Hall, 7900 South Westnedge Avenue, Portage, MI 49002. | https://msc.fema.gov/portal/advanceSearch. | Jun. 9, 2025 | 260577
Nevada: Independent City | City of Carson City (22-09-1343P). | The Honorable Lori Bagwell, Mayor, City of Carson City, 201 North Carson Street, Carson City, NV 89701. | City Hall, 201 North Carson Street, Carson City, NV 89701. | https://msc.fema.gov/portal/advanceSearch. | May 15, 2025 | 320001
New Mexico:
Bernalillo | City of Albuquerque (24-06-0847P). | The Honorable Tim Keller, Mayor, City of Albuquerque, 400 Marquette Avenue Northwest, Albuquerque, NM 87103. | Planning Department, 600 2nd Street Northwest, Albuquerque, NM 87102. | https://msc.fema.gov/portal/advanceSearch. | Jun. 5, 2025 | 350002
Bernalillo | Unincorporated areas of Bernalillo County (24-06-0847P). | Cindy Chavez, Bernalillo County Manager, 415 Silver Avenue Southwest, 8th Floor, Albuquerque, NM 87102. | Bernalillo County Clerk's Office, 415 Silver Avenue Southwest, Albuquerque, NM 87102. | https://msc.fema.gov/portal/advanceSearch. | Jun. 5, 2025 | 350001
North Carolina:
Buncombe | City of Asheville (23-04-6455P). | The Honorable Esther E. Manheimer, Mayor, City of Asheville, P.O. Box 7148, Asheville, NC 28802. | Stormwater Services and Utility, 161 South Charlotte Street, Asheville, NC 28801. | https://msc.fema.gov/portal/advanceSearch. | May 20, 2025 | 370032
Buncombe | Unincorporated areas of Buncombe County (23-04-6455P). | Amanda Edwards, Chair, Buncombe County Board of Commissioners, 200 College Street, Suite 300, Asheville, NC 28801. | Buncombe County Planning and Development, 46 Valley Street, Asheville, NC 28801. | https://msc.fema.gov/portal/advanceSearch. | May 20, 2025 | 370031
South Carolina:
Berkeley | City of Charleston (24-04-4598P). | The Honorable William S. Cogswell, Jr., Mayor, City of Charleston, 80 Broad Street, Charleston, SC 29401. | Building Inspection Department, 2 George Street, Suite 2100, Charleston, SC 29401. | https://msc.fema.gov/portal/advanceSearch. | May 15, 2025 | 455412
Berkeley | Unincorporated areas of Berkeley County (24-04-4598P). | Johnny Cribb, Supervisor, Berkeley County Council, 1003 North Highway 52, Moncks Corner, SC 29461. | Berkeley County Building and Codes Enforcement, 1003 North Highway 52, Moncks Corner, SC 29461. | https://msc.fema.gov/portal/advanceSearch. | May 15, 2025 | 450029
Texas:
Collin | City of Plano (24-06-1256P). | The Honorable John B. Muns, Mayor, City of Plano, 1520 K Avenue, Plano, TX 75074. | City Hall, 1520 K Avenue, Plano, TX 75074. | https://msc.fema.gov/portal/advanceSearch. | Jun. 2, 2025 | 480140
Dallas and Denton | City of Carrollton (25-06-0171P). | The Honorable Steve Babick, Mayor, City of Carrollton, P.O. Box 110535, Carrollton, TX 75006. | City Hall, 1945 East Jackson Road, Carrollton, TX 75006. | https://msc.fema.gov/portal/advanceSearch. | Jun. 3, 2025 | 480167
Kaufman | City of Terrell (24-06-1969P). | The Honorable Rick Carmona, Mayor, City of Terrell, P.O. Box 310, Terrell, TX 75160. | City Hall, 201 East Nash Street, Terrell, TX 75160. | https://msc.fema.gov/portal/advanceSearch. | May 19, 2025 | 480416
Utah: Davis | City of Layton (24-08-0320P). | The Honorable Joy Petro, Mayor, City of Layton, 437 North Wasatch Drive, Layton, UT 84041. | City Hall, 437 North Wasatch Drive, Layton, UT 84041. | https://msc.fema.gov/portal/advanceSearch. | May 27, 2025 | 490047
Washington:
Lewis | Unincorporated areas of Lewis County (23-10-0525P). | Ryan Barrett, Lewis County Manager, 351 Northwest North Street, Chehalis, WA 98532. | Lewis County Community Services Office, 2025 Northeast Kresky Avenue, Chehalis, WA 98532. | https://msc.fema.gov/portal/advanceSearch. | May 2, 2025 | 530102
Walla Walla | Unincorporated areas Walla Walla County (24-10-0146P). | Gunner Fulmer, Chair, Walla Walla County Board of Commissioners, P.O. Box 1506, Walla Walla, WA 99362. | Walla Walla County, Community Development Department, 310 West Poplar Street, Suite 200, Walla Walla, WA 99362. | https://msc.fema.gov/portal/advanceSearch. | Jun. 10, 2025 | 530194

[FR Doc. 2025-03893 Filed 3-11-25; 8:45 am]

BILLING CODE 9110-12-P